DEPARTMENT OF HOMELAND SECURITY

Transportation Security Administration

Extension of Agency Information Collection Activity Under OMB Review: TSA Office of Training and Workforce Engagement Canine Training and Evaluation Branch End of Course Level 1 Evaluation (Formerly Named: National Explosives Detection Canine Team Program Handler Training Assessment Survey)

AGENCY: Transportation Security Administration, DHS.

ACTION: 30-day notice.

SUMMARY: This notice announces that the Transportation Security Administration (TSA) has forwarded the Information Collection Request (ICR), Office of Management and Budget (OMB) control number 1652-0041 abstracted below, to OMB for review and approval of an extension of the currently-approved collection under the Paperwork Reduction Act (PRA). The ICR describes the nature of the information collection and its expected burden. TSA published a Federal Register notice, with a 60-day comment period, describing the collection of information on December 29, 2014, 79 FR 78099. The collection involves the submission of numerical ratings and written comments about the quality of training instruction from students who successfully complete the Office of Training and Workforce Engagement (OTWE) Canine Training and Evaluation Branch (CTEB) Explosives Detection Canine Handlers Course, Passenger Screening Canine Handler Course, and the Supervisor/Trainer Seminars.

DATES: Send comments by May 14, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Background

On September 27, 2013, the Office of Management and Budget (OMB) approved the Information Collection Request (ICR), OMB Control Number 1652-0041—National Explosives Detection Canine Team Program (NEDCTP) Handler Training Assessment Survey. The collection approval period expires on September 30, 2015.

TSA is requesting an extension of the collection due to the upcoming expiration date. However, since its approval, the collection's name has undergone multiple name changes. As noted in the previously filed 60-day Notice, the name of the collection was initially changed from National Explosives Detection Canine Team Program (NEDCTP) Handler Training Assessment Survey to TSA OLE/FAMS Canine Training and Evaluation Section (CTES) End of Course Level 1 Critique. See 79 FR 78099 (December 29, 2014). Subsequently, on January 15, 2015, the OLE/FAMS CTES was consolidated into Office of Training and Workforce Engagement (OTWE), Law Enforcement and Industry Training Division, becoming the Canine Training and Evaluation Branch (CTEB). As a result, the new name of the collection is now TSA Office of Training and Workforce Engagement (OTWE) Canine Training and Evaluation Branch (CTEB) End of Course Level 1 Evaluation.

Information Collection Requirement

Title: End of Course Level 1 Evaluation.

Type of Request: Extension of a currently-approved collection.

OMB Control Number: 1652-0041.

Forms(s): TSA Form 1904A.

Affected Public: State and local law enforcement officers as well as TSA personnel who successfully complete the TSA OTWE CTEB Explosives Detection Canine Handlers Course, Passenger Screening Canine Handler Course, and the Supervisor/Trainer Seminars.

Abstract: The OTWE CTEB Explosives Detection Canine Handlers Course, Passenger Screening Canine Handler Course, and the Supervisor/Trainer Seminars are given to state and local law enforcement officers as well as TSA personnel who are trained to be canine handlers. The state and local personnel participate under agency specific cooperative agreements in that portion of the TSA Grant program administered by the National Explosives Detection Canine Team Program (NEDCTP). The “End of Course Level 1 Evaluation” captures numerical ratings and written comments about the quality of training instruction provided from students who successfully complete the OTWE CTEB Explosives Detection Canine Handlers Course, Passenger Screening Canine Handler Course, and the Supervisor/Trainer Seminars. The data are collected in hardcopy form and are tabulated by Training Support Unit staff in OTWE. The surveys provide valuable feedback to the Supervisory Air Marshal in Charge (SAC) and CTEB instructional staff and supervisors on how the training material was presented and received. The Level 1 Evaluations are voluntary ¹ for students who successfully complete training, and the students may remain anonymous when completing the survey, i.e., they have the voluntary option to put their names on the survey. The feedback is used to improve the course curriculum.

¹ This is a change from the 60-day Notice, which indicated it was mandatory for students to complete the survey.

Number of Respondents: Average 180 students per calendar year.

Estimated Annual Burden Hours: Approximately one hour per participant, 180 hours per calendar year.

Issued in Arlington, Virginia, on April 6, 2015.
Christina A. Walsh,
TSA Paperwork Reduction Act Officer, Office of Information Technology.

[FR Doc. 2015-08577 Filed 4-13-15; 8:45 am]

BILLING CODE 9110-05-P